DEPARTMENT OF THE INTERIOR

Bureau of Land Management

[LLNVC01000.L19200000.ET0000; LRORF1709600; MO# 4500124053]

Public Land Order No. 7873; Withdrawal of Public Land for Land Management Evaluation Purposes; Nevada

AGENCY: Bureau of Land Management, Interior.

ACTION: Public Land Order.

SUMMARY: This order withdraws 694,838.84 acres of public land in Churchill, Lyon, Mineral, Nye, and Pershing Counties, Nevada from all forms of appropriation under the public land laws, including location and entry under the United States mining laws, and leasing under the mineral and geothermal leasing laws, subject to valid existing rights, for four years for land management evaluation purposes. In addition, 68,809.44 acres of Federal land in the Dixie Valley area (Churchill County, Nevada) are withdrawn from leasing under the mineral leasing laws. Including the 8,722.47 acres of Department of the Navy (DON) lands, the total Federal land withdrawn by this Public Land Order is 772,370.75 acres. Non-Federal lands totaling 66,160.53 acres are described within the withdrawal area. Any current or future Federal estate interest in these non-Federal lands are subject to this withdrawal.

DATES: This Public Land Order takes effect on August 31, 2018.

FOR FURTHER INFORMATION CONTACT: Colleen Dingman, BLM, Carson City District Office, 775-885-6168; address: 5665 Morgan Mill Rd., Carson City, NV 89701; email: cjdingman@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This withdrawal keeps the lands identified below from the specified forms of appropriation in order to maintain the current environmental baseline, relative to mineral exploration and development for land management evaluation, subject to valid existing rights, to allow the DON time to complete its environmental evaluations under the National Environmental Policy Act (NEPA). The DON's environmental evaluations and NEPA analysis are for a potential legislative withdrawal of these acres of land at Naval Air Station Fallon that the DON intends to propose to Congress to withdraw and reserve for military use.

Order

By virtue of the authority vested in the Secretary of the Interior by Section 204 of the Federal Land Policy and Management Act of 1976, 43 U.S.C. 1714, it is ordered as follows:

1. Subject to valid existing rights, the following described public lands are hereby withdrawn from all forms of appropriation under the public land laws, including location and entry under the United States mining laws, and leasing under the mineral and geothermal leasing laws, to maintain current environmental baseline conditions; excluding those public lands within Tps. 15 and 16 N., Rs. 34 and 35 E., that are subject to the following unpatented mining claims and millsites. Should any of these unpatented mining claims or millsites be forfeited or relinquished, the public lands would be subject to this withdrawal Order:

Mining Claim Nos: NMC1025588 thru NMC1025706, NMC108333 thru NMC1083361, NMC139460, NMC139462 thru NMC139464, NMC139486 thru NMC 139491, NMC144261, NMC144262, NMC186865, NMC186866, NMC3100915, NMC310918, NMC44931 thru NMC449940, and NMC804403; Millsite Nos: NMC1090926 thru NMC1090931.

Mount Diablo Meridian, Nevada

Lands Adjoining the Naval Air Station Fallon's B-16 Training Range

Bureau of Land Management

T. 16 N, R. 26 E,

Sec. 1, lots 1 thru 4;

Sec. 2, lots 1 and 2.

T. 17 N, R. 26 E, partly unsurveyed,

Secs. 1, 2, and 11 thru 13;

Sec. 14, E½;

Sec. 23, E½;

Secs. 24 and 25;

Sec. 26, E½;

Sec. 35, E½;

Sec. 36.

T. 18 N, R. 26 E,

Sec. 35, S½;

Sec. 36.

T. 16 N, R. 27 E,

Sec. 1, lots 1 thru 5, SW¼NE¼, S½NW¼, N½SW¼, and SW¼SW¼;

Secs. 2 and 3;

Sec. 4, lots 1 thru 4, S½NE¼, S½NW¼, N½SW¼, and N½SE¼;

Sec. 5, lots 1 thru 4, S½NE¼, S½NW¼, SW¼, and N½SE¼;

Sec. 6, lots 1 thru 5, S½NE¼, NE¼SE¼, and E½SE¼SE¼.

T. 17 N, R. 27 E, partly unsurveyed,

Secs. 4 thru 10;

Sec. 11, W½;

Sec. 14, W½;

Secs. 15 thru 22 and 27 thru 34.

T. 18 N, R. 27 E,

Secs. 27 thru 34;

Sec. 35, W½.

T. 16 N, R. 28 E, partly unsurveyed,

Sec. 5, lots 1 thru 4, S½NE¼ and S½NW¼;

Sec. 6, lots 1 thru 5, SE¼NW¼ and S½NE¼.

The area described for lands adjoining the Naval Air Station Fallon's B-16 aggregates 32,201.17 acres in Churchill and Lyon Counties.

Lands Adjoining the Naval Air Station Fallon's B-17 Training Range

Bureau of Land Management

T. 13 N, R. 32 E,

Sec. 1, except patented lands.

T. 14 N, R. 32 E, unsurveyed,

Secs. 1 thru 3, 10 thru 15, 22 thru 26, 35, and 36.

T. 15 N, R. 32 E, unsurveyed,

Secs. 25, 26, 35, and 36.

T. 12 N, R. 33 E,

Secs. 1 thru 8;

Sec 9, N½, N½SW¼, SW¼SW¼, N½SE¼, and SE¼SE¼;

Secs. 10 thru 15;

Sec 16, W½SW¼;

Secs. 17, 18, and 20 thru 24.

Tps. 13 and 14 N, R. 33 E, unsurveyed.

T. 15 N, R. 33 E, partly unsurveyed,

Sec. 6, that portion west of the easterly right-of-way boundary for State Route 839;

Sec. 7, that portion west of the easterly right-of-way boundary for State Route 839;

Sec. 18, that portion west of the easterly right-of-way boundary for State Route 839;

Sec. 19, that portion west of the easterly right-of-way boundary for State Route 839;

Secs. 29 thru 34.

T. 11 N, R. 34 E,

Secs. 1 thru 3;

Sec. 4, lot 4, S½SE¼, SW¼NW¼, NW¼SW¼ and S½SW¼;

Sec. 5;

Sec. 6, lots 1 and 2, S½NE¼ and SE¼;

Secs. 9 thru 12;

Sec. 13, N½;

Sec. 14, N½;

Sec. 15, N½;

Sec. 16, N½.

T. 12 N, R. 34 E,

Secs. 1 thru 5;

Sec. 6, lots 1 and 3 thru 7, SE¼NE¼, SE¼NW¼, E½SW¼, and S½SE¼;

Sec. 7, lots 1, 2, and 4, E½, E½NW¼, and SE¼SW¼;

Secs. 8 thru 27;

Sec. 28, NE¼, N½NW¼, SW¼NW¼, S½SW¼, and E½SE¼;

Sec. 29, N½, SW¼, W½SE¼, and SE¼SE¼;

Sec. 30;

Sec. 31, E½;

Sec. 32;

Sec. 33, E½NE¼ and NW¼;

Secs. 34 thru 36;

Tps. 13 and 14 N, R. 34 E, unsurveyed.

T. 15 N, R. 34 E, partly unsurveyed,

Secs. 1 thru 3;

Sec. 4, lots 1 thru 3, E½SW¼, and SE¼;

Sec. 9, E½, E½NW¼, and E½SW¼;

Secs. 10 thru 15;

Sec. 16, E½, E½NW¼, and E½SW¼;

Sec. 21, E½, E½NW¼, E½SW¼, and SW¼SW¼;

Secs. 22 thru 28 and 32 thru 36.

T. 16 N, R. 34 E, partly unsurveyed,

Sec. 15, lots 1 and 2, N½, SE¼, and E½SW¼;

Sec. 16, lots 1 thru 8 and 13, NE¼NE¼, and SW¼SE¼;

Sec. 21, lot 1, E½NE¼, SW¼NE¼, and SE¼;

Secs. 22, 23 and 25 thru 27;

Sec. 28, E½;

Sec. 33, E½;

Secs. 34 thru 36.

T. 11 N, R. 35 E,

Sec. 4, lots 3 and 4, SW¼ and S½NW¼;

Secs. 5 thru 7;

Sec. 8, W½.

T. 12 N, R. 35 E,

Secs. 1 thru 12;

Sec. 13, W½;

Secs. 14 thru 23;

Sec. 26, N½;

Secs. 27 thru 33;

Sec. 34, N½.

T. 13 N, R. 35 E, unsurveyed,

Secs. 1 thru 3;

Sec. 4, W½ and E½;

Secs. 5 thru 8;

Sec. 9, NE¼, NW¼, and S½;

Secs. 10 thru 36;

T. 14 N, R. 35 E, unsurveyed,

Sec. 2, W½;

Sec, 3;

Sec. 4, W½ and E½;

Secs. 5 thru 11;

Sec. 13, W½;

Secs. 14 thru 27;

Sec. 28, W½NE¼, E½NE¼, W½, W½SE¼, and E½SE¼;

Secs. 29 thru 32;

Sec. 33, W½NE¼, W½, W½SE¼, E½NE¼ and E½SE¼;

Secs. 34 thru 36.

T. 15 N, R. 35 E, unsurveyed,

Secs. 6 thru 8 and 17 thru 20;

Sec. 28, W½ and SE¼;

Secs. 29 thru 32;

Sec. 33, W½ and E½;

Sec. 34.

T. 16 N, R. 35 E,

Sec. 31.

T. 12 N, R. 36 E,

Sec. 6, lots 3 thru 7, SE¼NW¼ and E½SW¼.

T. 13 N, R. 36 E, unsurveyed,

Sec. 6, W½;

Sec. 7;

Secs. 18 and 19;

Sec. 30;

Sec. 31, W½.

T. 14 N, R. 36 E, unsurveyed,

Sec. 31, W½.

The area described for lands adjoining the Naval Air Station Fallon's B-17 training range aggregates 253,089.11 acres in Churchill, Nye, and Mineral Counties.

Lands Adjoining the Naval Air Station Fallon's B-20 Training Range

Bureau of Land Management

T. 24 N, R. 31 E,

Secs. 2, 4, 8, 10, 12, 14, 16, 18, 20, 22, 28, and 30.

T. 25 N, R. 31 E,

Secs. 34 and 36.

T. 24 N, R. 32 E,

Secs. 2, 4, 6, 8, 10, 12, 14, 16, and 18.

T. 25 N, R. 32 E,

Secs. 10, 12, and 14;

Sec. 15, SE¼NE¼, NE¼SE¼, and SE¼SE¼;

Secs. 16, 20, 22, 24, 26, 28, 32, 34, and 36.

T. 22 N, R. 33 E,

Secs. 4, 5, and 8.

T. 23 N, R. 33 E,

Secs. 2, 4, 10, 11, 14 thru 16, 21, 22, 27, 28, and 32 thru 34.

T. 24 N, R. 33 E,

Secs. 2, 4, 6, 8, 10, 12, 14, 16, 18, 22, 24, 26, 28, 34, and 36.

T. 25 N, R. 33 E,

Secs. 6, 8, 16, 18, 20, 22, 26, 28, 30, 32, and 34.

The area described for lands adjoining the Naval Air Station Fallon's B-20 training range aggregates 49,986.79 acres in Churchill and Pershing Counties.

Bureau of Reclamation

T. 22 N, R. 30 E,

Secs. 12 and 24.

T. 23 N, R. 30 E,

Secs. 25, 35, and 36.

T. 22 N, R. 31 E,

Secs. 2, 4, 6, 8, 10, 12, 14, 16, 18, 20, 22, 24, 26, 28, 30, 32 thru 34, and 36.

T. 23 N, R. 31 E,

Secs. 1 thru 4;

Sec. 5, S½;

Secs. 6 thru 36.

T. 24 N, R. 31 E,

Secs. 24, 26, 32, 34, and 36.

T. 22 N, R. 32 E,

Secs. 1, 2, 4, 6, and 8;

Sec. 9, E½;

Secs. 10 thru 16, 18, and 20 thru 36.

T. 23 N, R. 32 E,

Secs. 32, and 34 thru 36.

T. 22 N, R. 33 E,

Secs. 6, 7, and 18.

T. 23 N, R. 33 E,

Sec. 31.

The area described for lands adjoining the Naval Air Station Fallon's B-20 training range aggregates 65,375.88 acres in Churchill County.

Fish and Wildlife Service

T. 22 N, R. 30 E,

Secs. 2, 10, 14, 22, and 26.

The area described for lands adjoining the Naval Air Station Fallon's B-20 training range aggregates 3,201.00 acres in Churchill County.

Lands Adjoining the Naval Air Station Fallon's Dixie Valley Training Area

Bureau of Land Management

T. 13 N, R. 32 E,

Sec. 2;

Sec. 3, lots 1 thru 4, S½NE¼, S½NW¼, and SE¼;

Sec. 4, lots 1 and 2 and S½NE¼;

Sec. 11;

Sec. 12, except patented lands;

Secs. 13 and 24.

T. 14 N, R. 32 E, unsurveyed,

Secs. 4, 5, 8, 9, and 16;

Sec. 21, E½;

Sec. 27;

Sec. 28, E½;

Sec. 33, E½;

Sec. 34.

T. 15 N, R. 32 E, unsurveyed,

Secs. 1 and 2;

Sec. 3, except lands withdrawn under PLO 2771 and PLO 2834, “Shoal Site”;

Sec. 5, except lands withdrawn under PLO 2771 and PLO 2834, “Shoal Site”;

Sec. 8, except lands withdrawn under PLO 2771 and PLO 2834, “Shoal Site”;

Sec. 9, except lands withdrawn under PLO 2771 and PLO 2834, “Shoal Site”;

Sec. 10, except lands withdrawn under PLO 2771 and PLO 2834, “Shoal Site”;

Secs. 11 thru 17, 20 thru 24, 27 thru 29, and 32 thru 34.

T. 16 N, R. 32 E,

Secs. 13 and 14, 23 thru 26, 35, and 36.

T. 17 N, R. 32 E, partly unsurveyed,

Sec. 1, E½;

Sec. 12, E½.

T. 18 N, R. 32 E, unsurveyed,

Secs. 1, 12, 13, 24, 25, and 36.

T. 19 N, R. 32 E, unsurveyed,

Secs. 13, 24, 25, and 36.

T. 16 N, R. 33 E,

Sec. 1, that portion north of the southerly right-of-way boundary and south of the northerly right-of-way boundary for U.S. Highway 50;

Sec. 2, that portion north of the southerly right-of-way boundary and south of the northerly right-of-way boundary for U.S. Highway 50;

Sec. 3, that portion north of the southerly right-of-way boundary and south of the northerly right-of-way boundary for U.S. Highway 50, except patented lands;

Sec. 4, that portion north of the southerly right-of-way boundary and south of the northerly right-of-way boundary for U.S. Highway 50;

Sec. 5, that portion north of the southerly right-of-way boundary and south of the northerly right-of-way boundary for U.S. Highway 50;

Sec. 17, that portion west of the easterly right-of-way boundary for State Route 839;

Sec. 18, that portion west of the easterly right-of-way boundary for State Route 839;

Sec. 19, that portion west of the easterly right-of-way boundary for State Route 839;

Sec. 30, that portion west of the easterly right-of-way boundary for State Route 839;

Sec. 31, that portion west of the easterly right-of-way boundary for State Route 839;

Sec. 32, that portion west of the easterly right-of-way boundary for State Route 839.

T. 17 N, R. 33 E,

Secs. 6 and 7.

T. 18 N, R. 33 E, unsurveyed,

Secs. 1 thru 8;

Sec. 9, W½;

Sec. 10, that portion north of Elevenmile Canyon Wash;

Secs. 11 and 12;

Sec. 13, that portion north of Elevenmile Canyon Wash;

Sec. 14, that portion north of Elevenmile Canyon Wash;

Sec. 16, W½;

Secs. 17 thru 20;

Sec. 29, W½;

Secs. 30 and 31.

T. 19 N, R. 33 E, unsurveyed,

Sec. 19;

Sec. 20, N½, SW¼, and SE¼;

Secs. 21 thru 27;

Sec. 28, W½ and E½;

Secs. 29 thru 36.

T. 20 N, R. 33 E, unsurveyed,

Sec. 1, N½, SW¼, and SE¼;

Secs. 2 thru 8;

Sec. 9, NE¼, NW¼, and S½;

Sec. 10, N½ and S½;

Sec. 11, NE¼, NW¼, and S½;

Sec. 12.

T. 21 N, R. 33 E,

Secs. 1 thru 3;

Sec. 9, E½;

Secs. 10 thru 16;

Sec. 20, E½;

Secs. 21 and 22;

Sec. 23, except patented lands;

Sec. 24, except patented lands;

Secs. 25 thru 29;

Sec. 31, E½;

Secs. 32 thru 36.

T. 16 N, 33 ½ E,

Sec. 1, that portion north of the southerly right-of-way boundary and south of the northerly right-of-way boundary for U.S. Highway 50;

T. 18 N, R. 33 ½ E,

Secs. 1 and 12;

Sec. 13, that portion north of Elevenmile Canyon Wash;

Sec. 24, that portion north of Elevenmile Canyon Wash.

T. 19 N, R. 33 ½ E, unsurveyed,

Secs. 24, 25, and 36.

T. 20 N, R. 33 ½ E, unsurveyed,

Sec. 1, N½ and S½;

Sec. 12.

T. 16 N, R. 34 E, partly unsurveyed,

Secs. 1 thru 3;

Sec. 4, lots 1, 2, and 9 thru 12, and SE¼;

Sec. 5, that portion north of the southerly right-of-way boundary and south of the northerly right-of-way boundary for U.S. Highway 50;

Sec. 6, that portion north of the southerly right-of-way boundary and south of the northerly right-of-way boundary for U.S. Highway 50;

Sec. 9, lots 2 and 6, NE¼, and E½SE¼;

Secs. 10 thru 14 and 24.

T. 17 N, R. 34 E,

Secs. 1 and 2;

Sec. 3, lots 1 and 2, S½NE¼, and SE¼;

Sec. 10, E½;

Secs. 11 thru 13;

Sec. 14, lots 1 thru 4, N½, N½SW¼, and E½SE¼;

Sec. 15, E½;

Sec. 22, E½;

Sec. 23, lots 1 thru 3, E½NE¼, SW¼NE¼, S½NW¼, and S½;

Secs. 24 thru 26;

Sec. 27, E½;

Sec. 34, E½;

Secs. 35 and 36.

T. 18 N, R. 34 E,

Secs. 1 and 2;

Sec. 4, that portion west of the easterly right-of-way boundary for State Route 121;

Secs. 5 thru 8;

Sec. 9, that portion west of the easterly right-of-way boundary for State Route 121;

Secs. 11 thru 14;

Sec. 16, that portion west of the easterly right-of-way boundary for State Route 121;

Secs. 17 and 18;

Sec. 19, that portion north of Elevenmile Canyon Wash;

Sec. 20, that portion north of Elevenmile Canyon Wash;

Sec. 21, that portion west of the easterly right-of-way boundary for State Route 121 and north of Elevenmile Canyon Wash;

Secs. 23 thru 26, 35, and 36.

T. 19 N, R. 34 E,

Secs. 1 and 2;

Sec. 4, that portion west of the easterly right-of-way boundary for State Route 121;

Secs. 5 thru 8;

Sec. 9, that portion west of the easterly right-of-way boundary for State Route 121;

Secs. 11 thru 14;

Sec. 16, that portion west of the easterly right-of-way boundary for State Route 121;

Secs. 17 thru 20;

Sec. 21, that portion west of the easterly right-of-way boundary for State Route 121;

Secs. 23 and 24;

Sec. 25, lots 1 thru 9, N½NE¼, SW¼NE¼, NW¼, and NW¼SE¼;

Sec. 26, lots 1 thru 5, N½NE¼, SE¼NE¼, and W½;

Sec. 28, that portion west of the easterly right-of-way boundary for State Route 121;

Secs. 29 thru 32;

Sec. 33, that portion west of the easterly right-of-way boundary for State Route 121;

Sec. 35, lot 1, W½NE¼, SE¼NE¼, W½, and SE¼;

Sec. 36, lots 1 thru 11, SW¼NE¼, S½NW¼, and SW¼.

T. 20 N, R. 34 E, partly unsurveyed,

Sec. 1;

Sec. 2, lot 1, SE¼NE¼, and E½SE¼;

Sec. 3, lots 2 thru 4, SW¼NE¼, S½NW¼, SW¼, and W½SE¼;

Secs. 4 and 5;

Sec. 6, N½ and S½;

Secs. 7 thru 9;

Sec. 10, W½NE¼, W½, and W½SE¼;

Sec. 11, E½NE¼ and E½SE¼;

Secs. 12 and 13;

Sec. 14, E½NE¼ and E½SE¼;

Sec. 15, W½NE¼, W½, and W½SE¼;

Secs. 16, 17, 20 and 21;

Sec. 22, W½NE¼, W½, and W½SE¼;

Sec. 23, E½NE¼ and E½SE¼;

Secs. 24 and 25;

Sec. 26, E½NE¼ and E½SE¼;

Sec. 28, that portion west of the easterly right-of-way boundary for State Route 121;

Secs. 29 thru 32;

Sec. 33, that portion west of the easterly right-of-way boundary for State Route 121;

Secs. 35 and 36.

T. 21 N, R. 34 E,

Sec. 1, lots 1 thru 7, SW¼NE¼, S½NW¼, and W½SE¼;

Secs. 2 thru 18

Sec. 19;

Secs. 20 thru 23 and 26;

Sec. 27, N½, N½SW¼, SW¼SW¼, N½SE¼SW¼, W½SW¼SE¼SW¼, SE¼SW¼SE¼SW¼, SE¼SE¼SW¼, and SE¼;

Secs. 28 thru 33;

Sec. 34, W½.

T. 22 N, R. 34 E, unsurveyed,

Secs. 34, 35, and 36.

T. 15 N, R. 35 E, unsurveyed,

Sec. 5.

T. 16 N, R. 35 E,

Secs. 5 thru 8, 17 thru 20, 29, 30, and 32.

T. 17 N, R. 35 E,

Secs. 2 thru 10;

Sec. 11, W½;

Sec. 15, N½;

Secs. 16 thru 20;

Sec. 21, N½ and SW¼;

Secs. 29 thru 32.

T. 18 N, R. 35 E, unsurveyed,

Secs. 1 thru 3;

Sec. 4, except patented lands;

Sec. 5, except patented lands;

Sec. 6, except patented lands;

Sec. 7;

Sec. 8, except patented lands;

Sec. 9, except patented lands;

Secs. 10 thru 24 and 26 thru 35.

T. 19 N, R. 35 E,

Sec. 2;

Sec. 3, lots 1 thru 4, S½NE¼, S½NW¼, SW¼, N½SE¼, NE¼SW¼SE¼, N½NW¼SW¼SE¼, E½SE¼SE¼, NW¼SE¼SE¼, N½SW¼SE¼SE¼, and SE¼SW¼SE¼SE¼;

Secs. 4 thru 9;

Sec. 10, S½SW¼NE¼NE¼, S½SE¼NE¼NE¼, S½NE¼NW¼NE¼, S½NW¼NW¼NE¼, S½NW¼NE¼, S½NE¼, W½, and SE¼;

Sec. 11, NE¼, E½SE¼NE¼NW¼, NW¼NW¼NW¼, S½SW¼NW¼NW¼, S½SE¼NW¼NW¼, SW¼NW¼, NE¼NE¼SW¼, SE¼NW¼NE¼SW¼, N½SE¼NE¼SW¼, SE¼SE¼NE¼SW¼, W½SW¼, S½NE¼SE¼SW¼, S½NW¼SE¼SW¼, S½SE¼SW¼, N½NE¼SE¼, N½SW¼NE¼SE¼, N½SE¼NE¼SE¼, N½NW¼SE¼, W½SW¼NW¼SE¼, N½SE¼NW¼SE¼, S½SW¼SE¼ and S½SE¼SE¼;

Sec. 12, S½SW¼SW¼;

Secs. 13 thru 29;

Sec. 30, lots 1 thru 6, E½, and E½NW¼;

Sec. 31, lots 1 thru 7, NE¼, E½SW¼, N½SE¼, and SW¼SE¼;

Sec. 32, lots 1 thru 8, NW¼, and N½SW¼;

Sec. 33, lots 1 thru 9, E½NE¼, and SE¼;

Secs. 34 thru 36.

T. 20 N, R. 35 E, unsurveyed,

Secs. 2 thru 11, 14 thru 23, and 26 thru 35.

T. 21 N, R. 35 E,

Secs. 1 thru 3;

Sec. 4, lots 3 thru 8 and S½NW¼;

Sec. 5, lots 1 thru 4, S½NE¼, and S½NW¼;

Secs. 6 and 7;

Sec. 10, N½;

Sec. 11, W½;

Sec. 12;

Sec. 13, all that portion north of the southerly line of a dirt road, running NE and SW through lot 16;

Sec. 14, NE¼ and S½;

Sec. 15, S½NE¼, S½NW¼ and SE¼;

Sec. 16, SE¼;

Sec. 19, lots 5 thru 15;

Sec. 20, W½ and SE¼SE¼;

Sec. 21, E½ and SW¼;

Sec. 22, E½ and SW¼;

Sec. 23;

Sec. 24, those portions of lots 1 and 2 lying north of the southerly line of a dirt road, and lots 3 thru 6, 11, and 14.

Sec. 25, lots 3 thru 6 and 11 thru 14;

Secs. 26 thru 35;

Sec. 36, lots 3 thru 6 and 9 thru 12.

T. 22 N, R. 35 E,

Secs. 31 thru 36.

T. 19 N, R. 36 E,

Sec. 19, lots 1 thru 4, E½NW¼, E½SW¼ and E½;

Sec. 30, lots 1 thru 3, NE¼, E½NW¼, NE¼SW¼, N½SE¼, and SE¼SE¼;

Sec. 31, lot 4, E½, and E½SW¼.

T. 21 N, R. 36 E,

Secs. 2 thru 9;

Secs. 16 thru 18, those portions lying north of the southerly line of a dirt road running northwesterly through Secs. 16 thru 18 and turning southwesterly in Sec. 18.

T. 22 N, R. 36 E,

Secs. 31 thru 35.

The area described for lands adjoining the Dixie Valley Training Area aggregates 290,984.89 acres in Churchill and Mineral Counties.

DON Lands Not Withdrawn From the Public Domain

T. 20 N, R. 34 E,

Sec. 14, W½NE¼, W½, and W½SE¼;

Sec. 15, E½NE¼ and E½SE¼;

Sec. 22, E½NE¼ and E½SE¼;

Sec. 23, W½NE¼, W½ and W½SE¼.

T. 21 N, R. 34 E,

Sec. 1, SW¼;

Sec. 24;

Sec. 25, lots 3 and 4, SW¼, and W½SE¼;

Sec. 34, E½;

Secs. 35 and 36.

T. 19 N, R. 35 E,

Sec. 3, S½NW¼SW¼SE¼, S½SW¼SE¼, and SW¼SW¼SE¼SE¼;

Sec. 10, N½NE¼NE¼, N½SW¼NE¼NE¼, N½SE¼NE¼NE¼, N½NE¼NW¼NE¼, and N½NW¼NW¼NE¼;

Sec. 11, N½NE¼NW¼, SW¼NE¼NW¼, W½SE¼NE¼NW¼, NE¼NW¼NW¼, N½SW¼NW¼NW¼, N½SE¼NW¼NW¼, SE¼NW¼, N½NW¼NE¼SW¼, SW¼NW¼NE¼SW¼, SW¼NE¼SW¼, N½NE¼SE¼SW¼, N½NW¼SE¼SW¼, S½SW¼NE¼SE¼, S½SE¼NE¼SE¼, E½SW¼NW¼SE¼, S½SE¼NW¼SE¼, N½SW¼SE¼, N½SE¼SE¼, and SW¼SE¼NE¼SW¼.

T. 21 N, R. 35 E,

Sec. 4, W½SW¼, SE¼SW¼, and SE¼;

Sec. 5, S½;

Sec. 8, N½, NW¼SW¼, and SE¼;

Sec. 9, N½, SW¼, N½NE¼SE¼, N½NW¼SE¼, SW¼NW¼SE¼, W½SE¼NW¼SE¼, W½NE¼SW¼SE¼, SE¼NE¼SW¼SE¼, W½SW¼SE¼, SE¼SW¼SE¼, S½NE¼SE¼SE¼, S½NW¼SE¼SE¼, and S½SE¼SE¼;

Sec. 10, S½;

Sec. 14, NW¼;

Sec. 15, N½NE¼, N½NW¼, and SW¼;

Sec. 16, N½ and SW¼;

Sec. 17, E½;

Sec. 18, lots 1 thru 4, E½NW¼, E½SW¼, W½SE¼, and NE¼SE¼ except Parcel 1 of Logan Turley Parcel Map, filed in the office of the County Recorder of Churchill County of July 9, 1979, under filing number 165908;

Sec. 19, lots 1 and 2, NW¼NE¼, and E½NW¼;

Sec. 20, NE¼, N½SE¼, and SW¼SE¼;

Sec. 21, NW¼;

Sec. 22, NW¼.

The area described for lands adjoining the Dixie Valley Training Area aggregates 8,722.47 acres in Churchill and Mineral Counties.

2. Subject to valid existing rights, the following described public lands are hereby withdrawn from leasing under the mineral leasing laws to maintain current environmental baseline conditions:

Mount Diablo Meridian, Nevada

Lands Within the Naval Air Station Fallon's Dixie Valley Training Area

Bureau of Land Management

T. 16 N, R. 33 E,

Sec. 1, that portion north of the northerly right-of-way boundary for U.S. Highway 50;

Sec. 2, that portion north of the northerly right-of-way boundary for U.S. Highway 50;

Sec. 3, that portion north of the northerly right-of-way boundary for U.S. Highway 50, except patented lands;

Sec. 4, that portion north of the northerly right-of-way boundary for U.S. Highway 50;

Sec. 5, that portion north of the northerly right-of-way boundary for U.S. Highway 50.

T. 17 N, R. 33 E,

Secs. 1 thru 5, 8 thru 17, 20 thru 29 and 32 thru 36.

T. 18 N, R. 33 E, unsurveyed,

Sec. 9, E½;

Sec. 10, that portion south of Elevenmile Canyon Wash;

Sec. 13, that portion south of Elevenmile Canyon Wash;

Sec. 14, that portion south of Elevenmile Canyon Wash;

Sec. 15;

Sec. 16, E½;

Secs. 21 thru 28;

Sec. 29, E½;

Secs. 32 thru 36.

T. 16 N, R. 33 ½ E, unsurveyed,

Sec. 1, that portion north of the northerly right-of-way boundary for U.S. Highway 50.

T. 17 N, R. 33 ½ E.

T. 18 N, R. 33 ½ E,

Sec. 13, that portion south of Elevenmile Canyon Wash;

Sec. 24, that portion south of Elevenmile Canyon Wash;

Secs. 25 and 36.

T. 16 N, R. 34 E, partly unsurveyed,

Sec. 4, lots 3 and 5;

Sec. 5, that portion north of the northerly right-of-way boundary for U.S. Highway 50;

Sec. 6, that portion north of the northerly right-of-way boundary for U.S. Highway 50.

T. 17 N, R. 34 E,

Sec. 3, lots 3 and 4, S½NW¼ and SW¼;

Secs. 4 thru 9;

Sec. 10, W½;

Sec. 15, W½;

Secs. 16 thru 21;

Sec. 22, W½;

Sec. 27, W½;

Secs. 28 thru 33;

Sec. 34, W½.

T. 18 N, R. 34 E,

Sec. 3;

Sec. 4, that portion east of the easterly right-of-way boundary for State Route 121;

Sec. 9, that portion east of the easterly right-of-way boundary for State Route 121;

Secs. 10 and 15;

Sec. 16, that portion east of the easterly right-of-way boundary for State Route 121;

Sec. 19, that portion south of Elevenmile Canyon Wash;

Sec. 20, that portion south of Elevenmile Canyon Wash;

Sec. 21, that portion east of the easterly right-of-way boundary for State Route 121 and that portion south of Elevenmile Canyon Wash;

Sec. 22;

Secs. 27 thru 34.

T. 19 N, R. 34 E,

Sec. 3;

Sec. 4, that portion east of the easterly right-of-way boundary for State Route 121;

Sec. 9, that portion east of the easterly right-of-way boundary for State Route 121;

Secs. 10 and 15;

Sec. 16, that portion east of the easterly right-of-way boundary for State Route 121;

Sec. 21, that portion east of the easterly right-of-way boundary for State Route 121;

Secs. 22 and 27;

Sec. 28, that portion east of the easterly right-of-way boundary for State Route 121;

Sec. 33, that portion east of the easterly right-of-way boundary for State Route 121;

Sec. 34.

T. 20 N, R. 34 E, partly unsurveyed,

Sec. 2, lots 2 thru 4, SW¼NE¼, S½NW¼, SW¼, and W½SE¼;

Sec. 3, lot 1, SE¼NE¼ and E½SE¼;

Sec. 10, E½NE¼ and E½SE¼;

Sec. 11, W½NE¼, W½SE¼ and W½;

Sec. 26, W½NE¼, W½SE¼ and W½;

Sec. 27;

Sec. 28, that portion east of the easterly right-of-way boundary for State Route 121;

Sec. 33, that portion east of the easterly right-of-way boundary for State Route 121;

Sec. 34.

T. 21 N, R. 34 E,

Sec. 25, lots 1 and 2, W½NE¼ and NW¼.

T. 21 N, R. 35 E,

Sec. 17, W½;

Sec. 18, lots 5 thru 11 and E½SE¼SE¼NE¼.

The area described for Dixie Valley Training Area aggregates 68,809.44 acres in Churchill County.

3. Subject to valid existing rights, the following described non-Federal lands are hereby withdrawn from all forms of appropriation under the public land laws, including location and entry under the United States mining laws, and leasing under the mineral and geothermal leasing laws to maintain current environmental baseline conditions:

Mount Diablo Meridian, Nevada

Non-Federally Owned Lands

Lands Adjoining the Naval Air Station Fallon's B-17 Training Range

T. 13 N, R. 32 E, partly unsurveyed,

A portion of M.S. No. 4773 (Viking's Daughter, Turtle, Tungsten, and Don).

T. 12 N, R. 33 E,

Sec. 9, SE¼SW¼ and SW¼SE¼;

Sec. 16, N½, E½SW¼, and SE¼.

T. 11 N, R. 34 E,

Sec. 4, lots 1 thru 3, S½NE¼, SE¼NW¼, N½SE¼ and NE¼SW¼;

T. 12 N, R. 34 E,

Sec. 6, lot 2, SW¼NE¼, and N½SE¼;

Sec. 7, lot 3 and NE¼SW¼;

Sec. 28, SE¼NW¼, W½SE¼, and N½SW¼;

Sec. 29, NE¼SE¼;

Sec. 33, W½NE¼ and S½.

T. 16 N, R. 34 E, partly unsurveyed,

A portion of M.S. No. 4184 (Eva B, Eva B No.2, Argel No. 1, Argel No. 2, Argel No. 3, and Prince Albert Lodes);

A portion of M.S. No. 3927 (Lookout No. 11 Lode).

The area described for lands adjoining the Naval Air Station Fallon's B-17 training range aggregates 2,037.37 acres in Churchill, Nye, and Mineral Counties.

Lands Adjoining the Naval Air Station Fallon's B-20 Training Range

T. 22 N, R. 30 E,

Secs. 1, 11, 13, 15, 23, and 25.

T. 22 N, R. 31 E,

Secs. 1, 3, 5, 7, 9, 11, 13, 15, 17, 19, 21, 23, 25, 27, 29, 31, and 35.

T. 23 N, R. 31 E,

Sec. 5, lots 1 thru 4, S½NE¼ and S½NW¼.

T. 24 N, R. 31 E,

Secs. 1, 3, 9, 11, 13, 15, 17, 19, 21, 23, 25, 27, 29, 31, 33, and 35.

T. 25 N, R. 31 E,

Sec. 35.

T. 22 N, R. 32 E,

Secs. 3, 5, and 7;

Sec. 9, W½;

Secs. 17 and 19.

T. 23 N, R. 32 E,

Secs. 31 and 33.

T. 24 N, R. 32 E,

Secs. 1, 3, 5, 7, 9, 11, 13, 15, and 17.

T. 25 N, R. 32 E,

Secs. 1, 11 and 13;

Sec. 15, N½NE¼, SW¼NE¼, W½ and W½SE¼;

Secs. 21, 23, 25, 27, 29, 31, 33 and 35.

T. 23 N, R. 33 E,

Secs. 3 and 9.

T. 24 N, R. 33 E,

Secs. 1, 3, 5, 7, 9, 11, 13, 15, 17, 21, 23, 25, 27, 33, and 35.

T. 25 N, R. 33 E,

Secs. 5, 7, 15, 17, 19, 21, 27, 29, 31, 33, and 35.

The area described for lands adjoining the Naval Air Station Fallon's B-20 training range aggregates 61,764.88 acres in Churchill and Pershing Counties.

Lands Adjoining the Naval Air Station Fallon's Dixie Valley Training Area

T. 13 N, R. 32 E,

A portion of M.S. No. 4773A (Don and Tungsten No. 1 Lodes).

T. 16 N, R. 33 E,

Sec. 3, the right-of-way for U.S. Highway 50, as described in deed recorded July 27, 1934, Book 20, Deed Records, page 353, Doc. No. 48379 of Churchill County, NV.

T. 21 N, R. 33 E,

M.S. No. 1877 (IXL, 1st Ext. IXL, Black Prince, 1st Ext. Black Prince, Twin Sister and Twin Sister No. 2 Lodes);

M.S. No. 1936 A (Bonanza);

M.S. No. 1937 (Spring Mine).

T. 16 N, R. 34 E,

A portion of M.S. No. 3630 (Kimberly No. 3 and Kimberly No. 4 Lodes).

T. 17 N, R. 34 E,

M.S. No. 4180 (Copper King, Central and Horn Silver Lodes).

T. 19 N, R. 34 E,

M.S. No. 3064 (Spider, Wasp, Tony Pah, Long Nel and Last Chance Lodes);

A portion of M.S. No. 3122 (Great Eastern No. 1, Great Eastern No. 3 and Great Eastern No. 4 Lodes);

A portion of M.S. No. 3398 (Nevadan, Little Witch, Silver Tip, Valley View and Panhandle Lodes);

M.S. No. 3424 (Bumblebee, Grey Horse, Grey Horse No. 2, Grey Horse No. 1, Triangle Fraction and Kingstone Lodes);

M.S. No. 3885 (Last Chord, King Midas, King Midas No. 1, King Midas No. 2 and King Midas No. 3 Lodes).

T. 21 N, R. 34 E,

Sec. 27, NE¼SW¼SE¼SW¼ (Dixie Cemetery).

T. 18 N, R. 35 E, unsurveyed,

M.S. No. 2954 (Blue Jay Lode);

M.S. No. 3070 (Mars Lode);

M.S. No. 3071 (Scorpion Lode);

M.S. No. 3072 (B. and S. Lode);

M.S. No. 3078 (Nevada Wonder Lode);

M.S. No. 3079 (Ruby No. 1 Lode);

M.S. No. 3123 (Last Chance Lode);

M.S. No. 3124 (Last Chance No. 1 Lode);

M.S. No. 3325 (Nevada Wonder No. 2 Lode);

M.S. No. 3326 (Last Chance No. 2 Lode);

M.S. No. 3327 (Nevada Wonder No. 1, Ruby and Ruby No. 2 Lodes);

M.S. No. 3416 (Starr Lode);

M.S. No. 3417 (Moss Fraction Lode);

A portion of M.S. No. 3671 (Gold Dawn No. 1, Gold Dawn No. 2, Gold Dawn No. 3 and Gold Dawn No. 6 Lodes);

A portion of M.S. No. 3750 (Hercules, Jackrabbit, Hilltop and Hercules No. 2 Lodes);

M.S. No. 4225 (Nevada Wonder No. 3 Lode);

M.S. No. 4226 (Hidden Treasure, Hidden Treasure No. 1 and Hidden Treasure No. 2 Lodes);

M.S. No. 4227 (North Star, Rose No. 1, Twilight No. 2 and Twilight No. 3 Lodes);

Wonder Townsite, (Patent No. 214499, July 3, 1911);

Wonder Townsite, Blocks 31 and 42.

T. 19 N, R. 35 E,

M.S. No. 2826 (Jackpot and Grand View Lodes);

A portion of M.S. No. 3122 (Great Eastern, Great Eastern No. 1, Great Eastern No. 3, Great Eastern No. 4 and Great Eastern Fraction Lodes);

A portion of M.S. No. 3398 (Little Witch, Silver Tip, Valley View, Pan Handle and Yellow Jacket Lodes);

M.S. No. 3671 (Gold Dawn No. 1, Gold Dawn No. 2 and Gold Dawn No. 3 Lodes);

M.S. No. 3732 (Gold Bar No. 4, New York No. 2 and Blister Foot Lodes);

A portion of M.S. No. 3750 (Hilltop Fraction, Hercules, Hercules No. 2, Hercules No. 3, Hilltop, Jackrabbit, Worm, Beauty, Lizard No. 1 and Grand View Fraction Lodes);

M.S. No. 3786 (Queen, Queen No. 1, Queen No. 4, Queen No. 5, Queen No. 7, Queen No. 8, Queen No. 9, Queen No. 10, Queen No. 11, Queen Bee and Great Bend Lodes).

T. 21 N, R. 35 E,

Sec. 4, NE¼SW¼;

Sec. 8, E½SW¼ and SW¼SW¼;

Sec. 9, S½NE¼SE¼, E½SE¼NW¼SE¼, NE¼NE¼SW¼SE¼, N½NE¼SE¼SE¼, and N½NW¼SE¼SE¼;

Sec. 11, E½;

Sec. 18, a portion of NE¼SE¼ being Parcel 1 of Logan Turley Parcel Map, filed in the office of the County Recorder of Churchill County of July 9, 1979, under filing number 165908.

T. 19 N, R. 36 E,

Sec. 30, lot 4, SE¼SW¼, and SW¼SE¼;

Sec. 31, lots 1 thru 3 and E½NW¼.

The area described for lands adjoining the Dixie Valley Training Area aggregates 2,358.28 acres in Churchill and Mineral Counties.

4. The withdrawal made by this Order does not alter the applicability of those public land laws governing the use of the land under lease, license, or permit, or governing the disposal of the mineral or vegetative resources other than under the mining or mineral leasing laws.

5. This withdrawal will expire four years from the effective date of this order, unless, as a result of a review conducted pursuant to Section 204(f) of the Federal Land Policy and Management Act of 1976, 43 U.S.C. 1714(f), the Secretary determines that the withdrawal shall be extended.

Dated: August 23, 2018.
Joseph R. Balash,
Assistant Secretary, Land and Minerals Management.

[FR Doc. 2018-18998 Filed 8-30-18; 8:45 am]

BILLING CODE 4310-HC-P